DEPARTMENT OF HOMELAND SECURITY

Federal Emergency Management Agency

44 CFR Part 67

Final Flood Elevation Determinations

AGENCY: Federal Emergency Management Agency (FEMA), Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director has resolved any appeals resulting from this notification.

This final rule is issued in accordance with section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 13132, Federalism

This rule involves no policies that have federalism implications under Executive Order 13132.

Executive Order 12988, Civil Justice Reform

This rule meets the applicable standards of Executive Order 12988.

List of Subjects in 44 CFR Part 67

Administrative practice and procedure, Flood insurance, Reporting and recordkeeping requirements.

Accordingly, 44 CFR part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground * Elevation in feet (NGVD) modified ♢Elevation in feet (NAVD) modified
IA | West Des Moines (City) Polk and Dallas Counties (FEMA Docket No. P7687) | Jordan Creek. | Approximately 3,210 feet downstream of 68th Street | ♢924
|  |  | Approximately 1,950 feet upstream of E.P. True Parkway | ♢970
|  | Raccoon River | Approximately 75 feet downstream of South First Street | ♢816
|  |  | Approximately 1.7 miles upstream of U.S. Interstate 35 | ♢833
Maps are available for inspection at City Hall, City of West Des Moines, 4200 Mills Civic Parkway, West Des Moines, Iowa.
NM | Espanola (City) Rio Arriba and Santa Fe Counties (FEMA Docket No. P7671) | Arroyo del Gaucho | At the confluence with the Rio Grande | ♢5,602
|  |  | Approximately 2.04 miles upstream of U.S. Highway 84 | ♢5,918
|  | Arroyo de Guachupangue | Approximately 500 feet upstream of the confluence with the Rio Grande | ♢5,585
|  |  | Approximately 2,690 feet upstream of the confluence of Arroyo de Guachupangue Tributary | ♢5,683
|  | Arroyo de Guachupangue Tributary | At the confluence with Arroyo de Guachupangue | ♢5,632
|  |  | Approximately 500 feet upstream of the confluence with Arroyo de Guachupangue | ♢5,642
|  | Arroyo de Hanchitos | Approximately 2,690 feet downstream of U.S. Highway 285 | ♢5,607
|  |  | Approximately 1,650 feet upstream of U.S. Highway 285 | ♢5,680
|  | Llano Ditch Tributary | Approximately 250 feet upstream of El Llano Road | ♢5,599
|  |  | Approximately 1.3 miles upstream of El Llano Road | ♢5,705
|  | Rio Grande. | Approximately 1,650 feet downstream of U.S. Highway 84 | ♢5,581
|  |  | Approximately 0.82 mile upstream of the confluence of Arroyo del Gaucho | ♢5,607
|  | Rio Grande Tributary 1 | At North Railroad Avenue. | ♢5,595
|  |  | Approximately 1,930 feet upstream of Onate Street | ♢5,673
|  | Santa Cruz River | At the confluence with the Rio Grande | ♢5,586
|  |  | Approximately 1,170 feet upstream of State Highway 106 | ♢5,692
Maps are available for inspection at the Community Map Repository, City of Espanola, 405 North Paseo de Onate, Espanola, New Mexico.
TX | El Paso (City) El Paso County (FEMA Docket No. P7683) | Flow Path No. 28 Mesa Drain and Interceptor | Just upstream of Southern Pacific Railroad | ♢3,665
|  |  | Approximately 2,030 feet upstream of Bucher Road | ♢3,693
|  | Flow Path No. 29 | Approximately 200 feet downstream of Del Monte Street | ♢3,736
|  |  | Approximately 250 feet upstream of Cimarron Street | ♢3,769
|  | Flow Path No. 30 | At the confluence of Flow Path No. 28 Mesa Drain and Interceptor | ♢3,678
|  |  | Approximately 380 feet upstream of North Carolina Drive | ♢3,721
|  | Flow Path No. 32 | At the confluence with Flow Path No. 28 Mesa Drain and Interceptor | ♢3,668
|  |  | Approximately 35 feet downstream of Escobar Avenue | ♢3,714
|  | Flow Path No. 33 Middle Drain | Just upstream of confluence with Iowenstein Lateral | ♢3,666
|  |  | Approximately 85 feet downstream of North Zarogosa Road | ♢3,668
Maps are available for inspection at the City of El Paso, 2 Civic Center Plaza, El Paso, Texas.
♢North American Vertical Datum of 1988

(Catalog of Federal Domestic Assistance No. 83.100, “Flood Insurance.”)
David I. Maurstad,
Acting Director, Mitigation Division, Federal Emergency Management Agency, Department of Homeland Security.

[FR Doc. 06-2287 Filed 3-9-06; 8:45 am]

BILLING CODE 9110-12-P